DEPARTMENT OF TRANSPORTATION

Federal Aviation Administration

14 CFR Part 33

[Docket No. NE126; Special Conditions No. 33-005-SC]

Special Conditions: General Electric Aircraft Engines, Model CT7-8A, -8A5, -8B, -8B5, -8E, -8E5, -8F, and -8F5 Engines

AGENCY: Federal Aviation Administration (FAA), DOT.

ACTION: Final special conditions; request for comments.

SUMMARY: The FAA is issuing special conditions for the General Electric Aircraft Engines (GEAE) models CT7-8A, CT7-8A5, CT7-8B, CT7-8B5, CT7-8E, CT7-8E5, CT7-8F, CT7-8F5, engines. On August 2, 2000, the FAA issued Special Conditions (SC) No. 33-003-SC for the GEAE CT7-6e, and CT7-8, turboshaft engines. The CT7-8A, CT7-8A5, CT7-8B, CT7-8B5, CT7-8E, CT7-8E5, CT7-8F, CT7-8F5 engines will have a novel or unusual rated 30-minute power, and rated continuous one engine inoperative (OEI) power. The applicable airworthiness regulations do not contain adequate or appropriate safety standards for this design feature. This document contains the additional safety standards that the Administrator considers necessary to establish a level of safety equivalent to that established by the existing airworthiness standards.

DATES: The effective date of these special conditions is December 31, 2003. The FAA must receive comments on or before January 31, 2004.

ADDRESSES: Mail or deliver comments on these special conditions to: Federal Aviation Administration, Office of the Assistant Chief Counsel, Attention: Rules Docket NE126. You must identify the docket number NE126 at the beginning of your comments, and you should submit two copies of your comments. You may review the public docket containing comments to these special conditions in person at the Office of the Regional Counsel between 8 a.m. and 4:30 p.m., Monday through Friday, except Federal holidays.

FOR FURTHER INFORMATION CONTACT: Chung Hsieh, FAA, Engine and Propeller Standards Staff, Engine and Propeller Directorate, Aircraft Certification Service, ANE-110, 12 New England Executive Park, Burlington, Massachusetts, 01803-5229; telephone (781) 238-7115; fax (781) 238-7199; e-mail chung.hsieh@faa.gov.

SUPPLEMENTARY INFORMATION: The FAA has determined that notice and opportunity for prior public comment hereon are impracticable because these procedures would significantly delay the issuance of the design approval, and, as a result delay the delivery of aircraft with these engines installed. In addition, the substance of these special conditions has been subject to the public comment process on a prior occasion with no substantive comments received. The FAA, therefore, finds that good cause exists for making these special conditions effective upon issuance.

Comments Invited

The FAA has determined that good cause exists for making these special conditions effective December 31, 2003; however, the FAA invites interested parties to submit comments on the special conditions. Comments should identify the Rules Docket and special conditions number and be submitted in duplicate to the address specified above. The FAA will consider all comments received by the closing date. These special conditions may be changed in light of the comments received. All comments submitted will be available in the Rules Docket for examination by interested persons, both before and after the closing date for comments. A report summarizing each substantive public contact with FAA personnel concerning this proposal will be filed in the docket. Commenters wishing the FAA to acknowledge receipt of their comments submitted in response to this notice must include a self-addressed, stamped postcard on which the following statement is made: “Comments to Docket No. NE126.” The postcard will be date-stamped and returned to the commenter.

Background

On March 12, 2003, General Electric Aircraft Engines (GEAE) applied for an amendment to Type Certificate No. E8NE to include the new model CT7-8A turboshaft engine. The application was subsequently amended to include the CT7-8A5, CT7-8B, CT7-8B5, CT7-8E, CT7-8E5, CT7-8F, and CT7-8F5 engines. These engine models, which are derivatives of the CT7-8 currently approved under Type Certificate (TC) No. E8NE, will have the same engine rating structure as the CT7-8 model except that they will include rated continuous one engine inoperative (OEI) power instead of rated 30-minute OEI power. These engine models will be rated at 30-second OEI, 2-minute OEI, continuous OEI, 30-minute, takeoff, and maximum continuous ratings. The requirements in the existing regulations do not contain adequate or appropriate safety standards of this new and unusual engine rating structure.

The rated 30-minute power is the approved brake horsepower developed under static conditions at specified altitudes and temperatures within the operating limitations established under part 33 for periods of use no longer than 30 minutes each. This rating power would provide for rotorcraft hovering operations at a power level greater than maximum continuous power. The certification requirements have been defined around the worst case scenario of unrestricted periods of use, up to 30 minutes each, in one flight. Therefore, the total accumulated time for endurance testing of 30-minute periods, at rated 30-minute power for each period, must be 25 hours for certification. However, when the CT7-8A, CT7-8A5, CT7-8B, CT7-8B5, CT7-8E, CT7-8E5, CT7-8F, or CT7-8F5 engine models have a rated continuous OEI power equal to or higher than rated 30-minute power, the test run time of 25 hours under § 33.87(d) may be credited to satisfy the required running time of 25 hours at rated 30-minute power.

Type Certification Basis

Under the provisions of 14 CFR § 21.101, GEAE must show that the CT7-8A, CT7-8A5, CT7-8B, CT7-8B5, CT7-8E, CT7-8E5, CT7-8F, CT7-8F5 turboshaft engines meet the applicable provisions of the regulations incorporated by reference in TC No. E8NE or the applicable regulations in effect on the date of application for the change to the CT7-8. The regulations incorporated by reference in the TC are commonly referred to as the “original type certification basis.” The regulations incorporated by reference in TC No. E8NE are part 33, effective February 1, 1965, as amended by amendments 33-1 through 33-19 and Special Conditions Numbers 33-002-SC and 33-003-SC.

If the Administrator finds that the applicable airworthiness regulations (i.e., 14 CFR part 33) do not contain adequate or appropriate safety standards for the CT7-8A, CT7-8A5, CT7-8B, CT7-8B5, CT7-8E, CT7-8E5, CT7-8F, CT7-8F5 engines because of a novel or unusual design feature, special conditions are prescribed under the provisions of 14 CFR 21.16.

Special conditions, as appropriate, are issued in accordance with 14 CFR 11.49, as required by 14 CFR 11.28 and 11.29(b), and become part of the type certification basis in accordance with 14 CFR 21.101(b)(2).

Special conditions are initially applicable to the model for which they are issued. Should the type certificate for that model be amended later to include any other model that incorporates the same novel or unusual design feature, or should any other model already included on the same type certificate be modified to incorporate the same novel or unusual design feature, the special conditions would also apply to the other model under the provisions of 14 CFR 21.101(a)(1).

Novel or Unusual Design Features

The GEAE CT7-8A, CT7-8A5, CT7-8B, CT7-8B5, CT7-8E, CT7-8E5, CT7-8F, and CT7-8F5 turboshaft engines will incorporate the following novel or unusual design feature: rated 30-minute power. The power available for rotorcraft hovering to perform search and rescue or similar missions is limited to the maximum continuous rating power under the current part 33 requirements. The rated 30-minute power will provide a higher power level than currently available for use up to 30 minutes at any time between takeoff and landing during any flight. This new rating will enhance rotorcraft safety through the availability of increased power for hovering operations calling for greater than maximum continuous power.

Applicability

As discussed above, these special conditions apply to the CT7-8A, CT7-8A5, CT7-8B, CT7-8B5, CT7-8E, CT7-8E5, CT7-8F, and CT7-8F5 turboshaft engines. Should GEAE apply at a later date for a change to the type certificate to include another model incorporating the same novel or unusual design feature, the special conditions would apply to that model as well under the provisions of 14 CFR 21.101(a)(1).

Conclusion

This action affects only certain novel or unusual design features on these models of engines. It is not a rule of general applicability, and it affects only the applicant who applied to the FAA for approval of these features on the engine.

The substance of these special conditions has been subjected to the notice and comment period in one prior instance and has been derived without substantive change from those previously issued. The FAA has determined that prior public notice and comment are unnecessary and that good cause exists for adopting these special conditions immediately. Therefore, these special conditions are being made effective December 31, 2003. The FAA is, however, requesting comments to allow interested parties to submit views that may not have been submitted in response to the prior opportunities for comment described above.

List of Subjects in 14 CFR Part 33

Air transportation, Aircraft, Aviation safety, Safety.

The authority citation for these special conditions is as follows:

Authority: 49 U.S.C. 106(g), 40113, 44701-44702, 44704.

The Special Conditions

Accordingly, pursuant to the authority delegated to me by the Administrator, the following special conditions are issued as part of the type certification basis for GEAE model CT7-8A, CT7-8A5, CT7-8B, CT7-8B5, CT7-8E, CT7-8E5, CT7-8F, and CT7-8F5 turboshaft engines. The type certificate basis for the CT7-8A, CT7-8A5, CT7-8B, CT7-8B5, CT7-8E, CT7-8E5, CT7-8F, and CT7-8F5 engines is part 33, effective February 1, 1965, as amended by amendments 33-1 through 33-19 and Special Conditions Numbers 33-002-SC and 33-005-SC.

(a) Section 33.4, Instructions for Continued Airworthiness (ICA). In addition to the requirements of § 33.4, the ICA procedures must:

(1) Ensure that the engine deterioration in service will not exceed the level shown in certification using the rated 30-minute power.

(2) Be included in the airworthiness limitations section of the ICA.

(b) Section 33.7, Engine Ratings and Operating Limitations. In addition to the ratings provided in § 33.7, a rated 30-minute power is available. The rated 30-minute power is the approved brake horsepower developed under static conditions at specified altitudes and temperatures within the operating limitations established under part 33 and limited in use to periods of not over 30 minutes each.

(c) Section 33.87, Endurance Test. Unless already substantiated by the tests run under § 33.87(d), in addition to the requirements of § 33.87, conduct the following test:

Rated 30-minute power: One hour and ten minutes at alternate 5-minute periods at maximum continuous power, and 30-minute periods at rated 30-minute power during the 25 six-hour endurance test cycles.

Issued in Burlington, Massachusetts, on December 17, 2003.
Peter A. White,
Acting Manager, Engine and Propeller Directorate, Aircraft Certification Service.

[FR Doc. 03-31734 Filed 12-23-03; 8:45 am]

BILLING CODE 4910-13-M